DEPARTMENT OF HEALTH AND HUMAN SERVICES

National Institutes of Health

Prospective Grant of Exclusive License: “Coil for Transcranial Magnetic Stimulation”

AGENCY: National Institutes of Health, Public Health Service, DHHS.

ACTION: Notice.

SUMMARY: This is a public notice, in accordance with 35 U.S.C. 209(c)(1) and 37 CFR 404.7(a)(1)(i), that the National Institutes of Health (NIH), Department of Health and Human Services, is contemplating the grant of an exclusive license worldwide to practice the inventions embodied in:

Employee Invention Report E-223-00/0, “Coil for Magnetic Stimulation,” PCT Application No. PCT/US01/50737 by Zangen et al.

to BrainGate, Inc., having a place of business at 25883 Goose Neck Rd, Royal Oak, MD 21662.

The United States of America is the assignee to the patent rights of these inventions.

The contemplated exclusive license may be restricted to the fields of Transcranial Magnetic Stimulation (TMS) therapies and apparatus.

DATES: Only written comments and/or applications for a license that are received by the NIH Office of Technology Transfer on or before February 7, 2003, will be considered.

ADDRESSES: Requests for a copy of the patent application, inquiries, comments and other materials relating to the contemplated license should be directed to: Dale D. Berkley, Ph.D., J.D. Technology Licensing Specialist, Office of Technology Transfer, National Institutes of Health, 6011 Executive Boulevard, Suite 325, Rockville, MD 20852-3804; Telephone: (301) 435-5019; Facsimile: (301) 402-0220; E-mail: berkleyd@od.nih.gov. A signed confidential disclosure agreement will be required to receive copies of the patent application.

SUPPLEMENTARY INFORMATION: The invention is a magnetic stimulator that is placed in contact with the head of a subject to magnetically stimulate the brain. The device has applications in the treatment of cardiovascular or neurophysiological conditions, and may be of particular utility in the treatment of disorders associated with deep regions of the brain, such as drug addiction and depression. The unique coil shape of the stimulator is designed to target the nucleus accumbens, a region deep within the brain associated with the biological mechanism underlying drug abuse. Deep regions of the brain are also implicated in depressive disorders, and this coil is likely to offer an improvement in the transcranial magnetic stimulation therapy currently being tested for treatment of depression.

The prospective exclusive license will be royalty-bearing and will comply with the terms and conditions of 35 U.S.C. 209 and 37 CFR 404.7. The prospective exclusive license may be granted unless, within 60 days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: November 29, 2002.
Jack Spiegel,
Director, Division of Technology Development and Transfer, Office of Technology Transfer.

[FR Doc. 02-30959 Filed 12-5-02; 8:45 am]

BILLING CODE 4140-01-P